Title 3—

The President

Proclamation 9677 of November 17, 2017

National Family Week, 2017

By the President of the United States of America

A Proclamation

During National Family Week, we emphasize the importance of preserving and promoting strong families, the cornerstone of our society. Families are as diverse as our Nation. They often extend beyond moms, dads, and their children, and include adoptive and foster parents, grandparents, and extended relatives. But no matter their makeup, families share a unique quality—they naturally form the fundamental unit of our society. They hold more influence over our communities and our Nation than any other structure, so it is incumbent upon us, as a Nation, to strengthen and support them.

We cannot take strong families for granted. Each member of each family must work every day to nurture the bonds of love and loyalty that form the latticework of strong families. We can show support to our family members by loving selflessly, forgiving quickly, and spending quality time together.

In addition, Federal policy should be directed to facilitating the success of our families. Tax policy is a prime example. My Administration believes that Americans should be able to dedicate more of their resources and earnings to the task and duty of providing for their families. More of each paycheck should go toward supporting families and less should be directed to an all-too-often inefficient Federal Government. Our policies must also support working mothers, and enable them to reach their full potential. That is why I am committed to cutting taxes for middle-income families—including by expanding the child tax credit—and fundamentally reforming our Nation's outdated tax code. Our work will enable families to spend more of their hard-earned dollars on the success of their children.

Federal policy must also guard against threats to the family. In 2016, we lost at least 64,000 lives to opioid and other drug overdoses, devastating American families and communities. To combat this growing crisis, my Administration has already dedicated more than $1 billion in funding to address the drug addiction and opioid crisis since taking office. Last month, my Administration declared the opioid epidemic to be a nationwide public health emergency in order to focus needed Federal resources and attention on this critical matter. We will not abandon our families as they fight the scourge of opioids.

Throughout our Nation's history, in times of both turmoil and triumph, the strength and hope of the American family has sustained our citizens. The family is our foundation, a pillar of our past, and a key to our future prosperity. Strong families teach integrity and patriotism, encourage and foster teamwork, and demonstrate unconditional love and acceptance. When these foundational principles overflow from our homes into neighborhoods and communities, they strengthen and fortify the Nation.

During National Family Week, we support and encourage American families to create healthy, nurturing environments for their children and future generations. I hope all Americans will join me in gratitude to our Creator for the many ways families bless and enrich our lives and our Nation.

NOW, THEREFORE, I, DONALD J. TRUMP, President of the United States of America, by virtue of the authority vested in me by the Constitution and the laws of the United States, do hereby proclaim November 19 through November 25, 2017, as National Family Week. I invite communities, churches, and individuals to observe this week with appropriate ceremonies and activities to honor our Nation's families.

IN WITNESS WHEREOF, I have hereunto set my hand this seventeenth day of November, in the year of our Lord two thousand seventeen, and of the Independence of the United States of America the two hundred and forty-second.

[FR Doc. 2017-25492

Filed 11-21-17; 11:15 am]

Billing code 3295-F8-P